DEPARTMENT OF THE INTERIOR

Bureau of Reclamation

American River Pump Station Project, Placer County, California

AGENCY: Bureau of Reclamation, Interior.

ACTION: Notice of extension of time for review of draft environmental impact statement/environmental impact report (EIS/EIR).

SUMMARY: The Bureau of Reclamation (Reclamation) is extending the public review period for the Draft EIS/EIR for the PCWA American River Pump Station Project to December 13, 2001. The notice of availability for the Draft EIS/EIR was published in the Federal Register on September 13, 2001 (66 FR 47685-47686). The public review period was originally to end on November 13, 2001.

DATES: Public comments on the Draft EIS/EIR should be submitted on or before December 13, 2001.

ADDRESSES: Written comments on the Draft EIS/EIR should be addressed to Ms. Carol Brown, Surface Water Resources, Inc., 2031 Howe Avenue, Suite 110, Sacramento, California 95825. Requests for a printed copy of the Draft Programmatic EIS/EIR should also be addressed to Ms. Carol Brown.

FOR FURTHER INFORMATION CONTACT: For additional information, contact Mr. Roderick Hall, Reclamation, at (916) 989-7279, TDD (916) 980-7285, or e-mail rhall@mp.usbr.gov; or Mr. Brent Smith, PCWA, at (530) 823-4889, or e-mail at bsmith@pcwa.net.

Dated: November 16, 2001.
Frank Michny,
Regional Environmental Officer.

[FR Doc. 01-30095 Filed 12-4-01; 8:45 am]

BILLING CODE 4310-MN-P